DEPARTMENT OF TRANSPORTATION

Federal Aviation Administration

14 CFR Part 71

[Docket No. FAA-2019-0687; Airspace Docket No. 19-ASO-17]

RIN 2120-AA66

Proposed Amendment of Area Navigation Routes, Florida Metroplex Project; Southeastern United States

AGENCY: Federal Aviation Administration (FAA), DOT.

ACTION: Notice of proposed rulemaking (NPRM).

SUMMARY: This action proposes to amend 12 high altitude area navigation (RNAV) routes (Q-routes) in support of the Florida Metroplex Project. The proposed amendments would provide more efficient, streamlined options for users, and improve the efficiency of the National Airspace System (NAS).

DATES: Comments must be received on or before November 12, 2019.

ADDRESSES: Send comments on this proposal to the U.S. Department of Transportation, Docket Operations, 1200 New Jersey Avenue SE, West Building Ground Floor, Room W12-140, Washington, DC 20590; telephone: 1(800) 647-5527 or (202) 366-9826. You must identify FAA Docket No. FAA-2019-0687; Airspace Docket No. 19-ASO-17 at the beginning of your comments. You may also submit comments through the internet at http://www.regulations.gov.

FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to http://www.archives.gov/federal-register/cfr/ibr-locations.html.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of area navigation routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0687; Airspace Docket No. 19-ASO-17) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0687; Airspace Docket No. 19-ASO-17.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at http://www.regulations.gov. Recently published rulemaking documents can also accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11D, Airspace Designations and Reporting Points, dated August 8, 2019, and effective September 15, 2019. FAA Order 7400.11D is publicly available as listed in the ADDRESSES section of this proposed rule. FAA Order 7400.11D lists Class A, B, C, D, and E airspace areas, air traffic service routes, and reporting points.

Background

The Florida Metroplex Project developed Performance Based Navigation (PBN) routes involving Jacksonville Air Route Traffic Control Center (ARTCC), Miami ARTCC, and San Juan Center Radar Approach Control (CERAP). The FAA issued a final rule for Docket No. FAA-2018-0437 in the Federal Register (83 FR 43750; August 28, 2018) establishing 16 new high altitude area navigation (RNAV) routes (Q-routes) and modifying 7 existing Q-routes in the southeastern United States. The routes became effective on November 8, 2018. Of those 23 routes, the FAA is proposing to modify 12 Q-routes as described below.

The Proposal

The FAA is proposing an amendment to Title 14 Code of Federal Regulations (14 CFR) part 71 to amend 12 existing Q-routes, in the southeastern United States in support of the Florida Metroplex Project. The amendments would include adding additional waypoints (WP) to various Q-routes. These added WPs would give air traffic controllers more predictability, and provide users with more options when filing flight plans. Amendments would be made to the descriptions of the following routes: Q-65, Q-77, Q-79, Q-81, Q-85, Q-87, Q-93, Q-99, Q-109, Q-110, Q-116, and Q-118.

The proposed Q-route amendments are as follows (full route descriptions are detailed in the proposed amendments to 14 CFR part 71 set forth below):

Q-65: Q-65 extends between the KPASA, FL, WP, and the Rosewood, OH, VORTAC. The FAA proposes to realign the southern end point of the route by approximately 50 nautical miles (NM) to the southwest from the KPASA, FL, WP, to the MGNTY, FL, WP (located near the St Petersburg, FL, (PIE) VORTAC. The KPASA WP would be removed from the route. The purpose of this amendment is to realign the southern end of Q-65 to a point over Florida's west coast thereby enhancing separation from other air traffic using central Florida routes. Q-65 between DOFFY, FL, and Rosewood, OH, would remain as currently charted.

Q-77: Q-77 extends between the OCTAL, FL, WP, and the WIGVO, GA, WP. This proposal would update the latitude/longitude coordinates for the OCTAL, FL, the STYMY, FL, and the WAKKO, FL, WPs. The coordinates for the OCTAL, FL, WP would be changed from “lat. 26°09′01.91″ N, long. 080°06′37.51″ W,” to “lat.26°09′01.92″ N, long. 080°12′11.60″ W” This would move OCTAL approximately 5 NM to the west of its current position. The STYMY, FL, WP, coordinates would be changed from “lat. 28°01′09.65″ N, long. 081°08′41.27″ W,” to “lat. 28°02′12.25″ N, long. 081°09′05.47″ W” This would move STYMY approximately 1 NM to the north of its current position. The WAKKO, FL, WP coordinates would be changed from “lat. 28°18′00.69″ N, long. 081°24′53.49″ W,” to “lat. 28°20′31.57″ N, long. 081°18′32.14″ W” This change would move WAKKO approximately 6 NM to the east of its current position. Updating the coordinates for these WPs would provide “tie-ins” for new procedures to Q-77. The FAA also proposes to remove the WASUL, FL, WP (located between the WAKKO, FL, and the MJAMS, FL, WPs) from Q-77. Removal of the WASUL WP, along with the updated positions of the STYMY and WAKKO WPs, would allow straightening of the route segments between the STYMY and MJAMS WPs.

Q-79: Q-79 extends between the MCLAW, FL, WP, and the Atlanta, GA, (ATL) VORTAC. This action would add two new points: The EVANZ, FL, and the IISLY, GA, WPs, between the existing DOFFY, FL, and the YUESS, GA, WPs.

Q-81: Q-81 extends between the TUNSL, FL, WP, and the HONID, GA, WP. The MGNTY, FL, WP would be added between the existing FARLU, FL, and the ENDEW, FL, WPs. The SNAPY, FL, the BULZI, FL, and the IPOKE, GA, WPs would be added between the existing NICKI, FL, and the HONID, GA, WPs.

Q-85: Q-85 extends between the LPERD, FL, WP, and the SMPRR, NC, WP. This change would add the BEEGE, GA, WP between the existing LPERD, FL, and the GIPPL, GA, WPs.

Q-87: Q-87 extends between the PEAKY, FL, WP, and the LCAPE, SC, WP. The OVENP, FL, WP would be added between the existing DUCEN, FL, and the FEMON, FL, WPs. Additionally, the SUSYQ, GA, WP would be added between the VIYAP, GA, Fix, and the TAALN, GA, WPs.

Q-93: Q-93 extends between the MCLAW, FL, WP, and the QUIWE, SC, WP. The SUSYQ, GA, WP would be added between the existing GIPPL, GA, and the ISUZO, GA, WPs. The GURGE, SC, WP would be added between the ISUZO, GA, and the FISHO, SC, WPs.

Q-99: Q-99 extends between the DOFFY, FL, WP, and the POLYY, NC, WP. This proposal would extend the southern end of the route from the current DOFFY, FL, WP approximately 75 NM southeast to the KPASA, FL, WP. Adding the KPASA WP would expand the availability of RNAV routing in the area. Q-99 between DOFFY, FL, and POLYY, NC, would remain as currently charted.

Q-109: Q-109 extends between the DOFFY, FL, WP, and the LAANA, NC, WP. This action would realign the southern end of the route from the current DOFFY, FL, WP, to the KNOST, OG, WP (which is located over the Gulf of Mexico) approximately 78 NM southwest of the DOFFY, WP. The DOFFY, WP would be removed from Q-109. This change would provide connection to the U.S. NAS for users from Mexico and Central America. In addition, the DEANER, FL, the BRUTS, FL, and the EVANZ, FL, WPs would be added to the route between the KNOST, OG, WP, and the CAMJO, FL, WP. After CAMJO, Q-109 would extend as currently charted to the LAANA, NC, WP.

Q-110: Q-110 extends between the BLANS, IL, WP, and the OCTAL, FL, WP.

The coordinates for the OCTAL, FL, WP would be updated as described above. In addition, an editorial change would be made to the order of the WPs listed in the Q-110 description and published in FAA Order 7400.11D. Currently, the route description lists the points from “BLANS, IL, to OCTAL, FL.” This change would simply reverse the order of the points listed in the Q-110 description in Order 7400.11 to “OCTAL, FL, to BLANS, IL.” This change would match airspace database documentation. Except for the change to the OCTAL, FL, WP coordinates, the amendment the order of points would not affect the alignment of Q-110.

Q-116: Q-116 extends between the Vulcan, AL, (VUZ) VORTAC, and the OCTAL, FL, WP. Q-116 would be amended by updating the coordinates for the OCTAL, FL, WP, as described above. In addition, the DEANR, FL, WP would be added between the existing MICES, FL, and the PATOY, FL, WPs.

Q-118: Q-118 extends between the Marion, IN, (MZZ) VOR/DME, and the PEAKY, FL, WP, FL. The BRIES, FL, WP would be removed from the route description as it is no longer required for air traffic control purposes.

Note: In the regulatory text, below, some route descriptions include waypoints located over international waters. In those route descriptions, in place of a two-letter state abbreviation, either “OA,” meaning “Offshore Atlantic,” or “OG,” meaning “Offshore Gulf of Mexico,” is used.

RNAV routes are published in paragraph 2006 of FAA Order 7400.11D dated August 8, 2019, and effective September 15, 2019, which is incorporated by reference in 14 CFR 71.1. The RNAV routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2006 United States Area Navigation Routes

* * * * *

Q-65 MGNTY, FL to Rosewood, OH (ROD) [Amended]
MGNTY, FL | WP | (Lat. 28°01′32.99″ N, long. 082°53′19.71″ W)
DOFFY, FL | WP | (Lat. 29°15′22.73″ N, long. 082°31′38.10″ W)
FETAL, FL | WP | (Lat. 30°11′03.69″ N, long. 082°30′24.76″ W)
ENEME, GA | WP | (Lat. 30°42′12.09″ N, long. 082°26′09.31″ W)
JEFOI, GA | WP | (Lat. 31°35′37.02″ N, long. 082°31′18.38″ W)
TRASY, GA | WP | (Lat. 31°55′25.92″ N, long. 082°35′50.51″ W)
CESKI, GA | WP | (Lat. 32°16′21.27″ N, long. 082°40′38.96″ W)
DAREE, GA | WP | (Lat. 34°37′35.72″ N, long. 083°51′35.03″ W)
LORNN, TN | WP | (Lat. 35°21′16.33″ N, long. 084°14′19.35″ W)
SOGEE, TN | WP | (Lat. 36°31′50.64″ N, long. 084°11′35.39″ W)
ENGRA, KY | WP | (Lat. 37°29′02.34″ N, long. 084°15′02.15″ W)
OCASE, KY | WP | (Lat. 38°23′59.05″ N, long. 084°11′05.32″ W)
Rosewood, OH (ROD) | VORTAC | (Lat. 40°17′16.08″ N, long. 084°02′35.15″ W)
Q-77 OCTAL, FL to WIGVO, GA [New]
OCTAL, FL | WP | (Lat. 26°09′01.92″ N, long. 080°12′11.60″ W)
MATLK, FL | WP | (Lat. 27°49′36.54″ N, long. 080°57′04.27″ W)
STYMY, FL | WP | (Lat. 28°02′12.25″ N, long. 081°09′05.47″ W)
WAKKO, FL | WP | (Lat. 28°20′31.57″ N, long. 081°18′32.14″ W)
MJAMS, FL | WP | (Lat. 28°55′37.59″ N, long. 081°36′33.30″ W)
ETORE, FL | WP | (Lat. 29°41′49.00″ N, long. 081°40′47.75″ W)
SHRKS, FL | WP | (Lat. 30°37′23.23″ N, long. 081°45′59.13″ W)
TEUFL, GA | WP | (Lat. 31°52′00.46″ N, long. 082°01′04.56″ W)
WIGVO, GA | WP | (Lat. 32°27′24.00″ N, long. 082°02′18.00″ W)
Q-79 MCLAW, FL to Atlanta, GA (ATL) [New]
MCLAW, FL | WP | (Lat. 24°33′49.00″ N, long. 081°01′00.00″ W)
VAULT, FL | WP | (Lat. 24°45′54.75″ N, long. 081°00′33.72″ W)
FEMID, FL | WP | (Lat. 26°06′29.59″ N, long. 081°27′23.07″ W)
WULFF, FL | WP | (Lat. 27°04′03.14″ N, long. 081°58′44.99″ W)
MOLIE, FL | WP | (Lat. 28°01′55.53″ N, long. 082°18′25.55″ W)
DOFFY, FL | WP | (Lat. 29°15′22.73″ N, long. 082°31′38.10″ W)
EVANZ, FL | WP | (Lat. 29°54′12.11″ N, long. 082°52′03.81″ W)
IISLY, GA | WP | (Lat. 30°42′37.70″ N, long. 083°17′57.72″ W)
YUESS, GA | WP | (Lat. 31°41′00.00″ N, long. 083°33′31.20″ W)
Atlanta, GA (ATL) | VORTAC | (Lat. 33°37′44.68″ N, long. 084°26′06.23″ W)
Q-81 TUNSL, FL to HONID, GA [New]
TUNSL, FL | WP | (Lat. 24°54′02.43″ N, long. 081°31′02.80″ W)
KARTR, FL | FIX | (Lat. 25°29′45.76″ N, long. 081°30′46.24″ W)
FIPES, OG | WP | (Lat. 25°41′30.15″ N, long. 081°37′13.79″ W)
THMPR, FL | WP | (Lat. 26°46′00.21″ N, long. 082°20′23.99″ W)
LEEHI, FL | WP | (Lat. 27°07′21.91″ N, long. 082°34′54.57″ W)
FARLU, FL | WP | (Lat. 27°45′32.56″ N, long. 082°50′43.77″ W)
MGNTY, FL | WP | (Lat. 28°01′32.99″ N, long. 082°53′19.71″ W)
ENDEW, FL | WP | (Lat. 28°18′01.73″ N, long. 082°55′56.70″ W)
BITNY, OG | WP | (Lat. 28°46′11.98″ N, long. 083°07′53.01″ W)
NICKI, FL | WP | (Lat. 29°15′20.19″ N, long. 083°20′31.80″ W)
SNAPY, FL | WP | (Lat. 29°48′51.17″ N, long. 083°42′23.61″ W)
BULZI, FL | WP | (Lat. 30°22′24.93″ N, long. 084°04′34.47″ W)
IPOKE, GA | WP | (Lat. 30°51′48.89″ N, long. 084°11′52.43″ W)
HONID, GA | WP | (Lat. 31°38′50.31″ N, long. 084°23′42.60″ W)
Q-85 LPERD, FL to SMPRR, NC [New]
LPERD, FL | WP | (Lat. 30°36′09.18″ N, long. 081°16′52.16″ W)
BEEGE, GA | WP | (Lat. 31°10′59.98″ N, long. 081°16′57.50″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
Q-87 PEAKY, FL to LCAPE, SC [New]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
OVENP, FL | WP | (Lat. 30°08′04.41″ N, long. 081°22′26′25″ W)
FEMON, FL | WP | (Lat. 30°27′31.57″ N, long. 081°23′36.20″ W)
VIYAP, GA | FIX | (Lat. 31°15′08.15″ N, long. 081°26′08.18″ W)
SUSYQ, GA | WP | (Lat. 31°40′54.28″ N, long. 081°12′07.99″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
Q-93 MCLAW, FL to QUIWE, SC [New]
MCLAW, FL | WP | (Lat. 24°33′49.00″ N, long. 081°01′00.00″ W)
VAULT, FL | WP | (Lat. 24°45′54.75″ N, long. 081°00′33.72″ W)
LINEY, FL | WP | (Lat. 25°16′44.02″ N, long. 080°53′15.43″ W)
FOBIN, FL | WP | (Lat. 25°47′02.00″ N, long. 080°46′00.89″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
GIPPL, GA | WP | (Lat. 31°22′53.96″ N, long. 081°09′53.70″ W)
SUSYQ, GA | WP | (Lat. 31°40′54.28″ N, long. 081°12′07.99″ W)
ISUZO, GA | WP | (Lat. 31°57′47.85″ N, long. 081°14′14.79″ W)
GURGE, SC | WP | (Lat. 32°29′02.26″ N, long. 081°12′41.48″ W)
FISHO, SC | WP | (Lat. 33°16′46.25″ N, long. 081°24′43.52″ W)
QUIWE, SC | WP | (Lat. 33°57′05.56″ N, long. 081°30′07.93″ W)
Q99 KPASA, FL to POLYY, NC [New]
KPASA, FL | WP | (Lat. 28°10′34.00″ N, long. 081°54′27.00″ W)
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
Q-109 KNOST, OG to LAANA, NC [New]
KNOST, OG | WP | (Lat. 28°00′02.55″ N, long. 083°25′23.99″ W)
DEANR, FL | WP | (Lat. 29°15′30.40″ N, long. 083°03′30.24″ W)
BRUTS, FL | WP | (Lat. 29°30′58.00″ N, long. 082°58′57.00″ W)
EVANZ, FL | WP | (Lat. 29°54′12.11″ N, long. 082°52′03.81″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, GA | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
Q-110 OCTAL, FL to BLANS, IL [Amended]
OCTAL, FL | WP | (Lat. 26°09′01.92″ N, long. 080°12′11.60″ W)
JAYMC, FL | WP | (Lat. 26°58′51.00″ N, long. 081°22′08.00″ W)
SHEEK, FL | WP | (Lat. 27°35′15.40″ N, long. 081°46′27.82″ W)
SMELZ, FL | WP | (Lat. 28°04′59.00″ N, long. 082°06′34.00″ W)
AMORY, FL | WP | (Lat. 29°13′17.02″ N, long. 082°55′42.90″ W)
JOKKY, FL | WP | (Lat. 30°11′31.47″ N, long. 083°38′41.86″ W)
DAWWN, GA | WP | (Lat. 31°28′49.96″ N, long. 084°36′46.69″ W)
JYROD, AL | WP | (Lat. 33°10′53.29″ N, long. 085°51′54.85″ W)
BFOLO, AL | WP | (Lat. 34°03′33.98″ N, long. 086°31′30.49″ W)
SKIDO, AL | WP | (Lat. 34°31′49.10″ N, long. 086°53′11.16″ W)
BETIE, TN | WP | (Lat. 36°07′29.88″ N, long. 087°54′01.48″ W)
BLANS, IL | WP | (Lat. 37°28′09.27″ N, long. 088°44′00.68″ W)
Q-116 Vulcan, AL (VUZ) to OCTAL, FL [Amended]
Vulcan, AL (VUZ) | VORTAC | (Lat. 33°40′12.48″ N, long. 086°53′59.41″ W)
DEEDA, GA | WP | (Lat. 31°34′13.55″ N, long. 085°00′31.10″ W)
JAWJA, FL | WP | (Lat. 30°10′25.55″ N, long. 083°48′58.94″ W)
MICES, FL | WP | (Lat. 29°51′37.65″ N, long. 083°33′18.30″ W)
DEANR, FL | WP | (Lat. 29°15′30.40″ N, long. 083°03′30.24″ W)
PATOY, FL | WP | (Lat. 29°03′52.49″ N, long. 082°54′00.09″ W)
SMELZ, FL | WP | (Lat. 28°04′59.00″ N, long. 082°06′34.00″ W)
SHEEK, FL | WP | (Lat. 27°35′15.40″ N, long. 081°46′27.82″ W)
JAYMC, FL | WP | (Lat. 26°58′51.00″ N, long. 081°22′08.00″ W)
OCTAL, FL | WP | (Lat. 26°09′01.92″ N, long. 080°12′11.60″ W)
Q-118 Marion, IN (MZZ) to PEAKY, FL [Amended]
Marion, IN (MZZ) | VOR/DME | (Lat. 40°29′35.99″ N, long. 085°40′45.30″ W)
HEVAN, IN | WP | (Lat. 39°21′08.86″ N, long. 085°07′46.70″ W)
ROYYZ, IN | WP | (Lat. 39°56′28.93″ N, long. 084°56′10.19″ W)
VOSTK, KY | WP | (Lat. 38°28′15.86″ N, long. 084°43′03.58″ W)
HELUB, KY | WP | (Lat. 37°42′54.84″ N, long. 084°44′28.31″ W)
JEDER, KY | WP | (Lat. 37°19′30.54″ N, long. 084°45′14.17″ W)
GLAZR, TN | WP | (Lat. 36°25′20.78″ N, long. 084°46′49.29″ W)
KAILL, GA | WP | (Lat. 34°01′47.21″ N, long. 084°31′24.18″ W)
Atlanta, GA (ATL) | VORTAC | (Lat. 33°37′44.68″ N, long. 084°26′06.23″ W)
JOHNN, GA | FIX | (Lat. 31°31′22.94″ N, long. 083°57′26.55″ W)
JAMIZ, FL | WP | (Lat. 30°13′46.91″ N, long. 083°19′27.78″ W)
BRUTS, FL | WP | (Lat. 29°30′58.00″ N, long. 082°58′57.00″ W)
JINOS, FL | WP | (Lat. 28°28′46.00″ N, long. 082°08′52.00″ W)
KPASA, FL | WP | (Lat. 28°10′34.00″ N, long. 081°54′27.00″ W)
SHEEK, FL | WP | (Lat. 27°35′15.40″ N, long. 081°46′27.82″ W)
CHRRI, FL | FIX | (Lat. 27°03′00.70″ N, long. 081°39′14.81″ W)
FEMID, FL | WP | (Lat. 26°06′29.59″ N, long. 081°27′23.07″ W)
PEAKY, FL | WP | (Lat. 24°35′23.72″ N, long. 081°08′53.91″ W)

* * * * *

Issued in Washington, DC, on September 18, 2019.
Scott M. Rosenbloom,
Acting Manager, Airspace Policy Group.

[FR Doc. 2019-20693 Filed 9-26-19; 8:45 am]

BILLING CODE 4910-13-P